DEPARTMENT OF ENERGY

Federal Energy Regulatory Commission

[Project No. 2042]

PUD #1 of Pend Oreille County; Notice of Teleconference Meeting for the Box Canyon Hydroelectric Project

January 24, 2002.

a. Date and Time of Meeting: February 26, 2002, 1 p.m. EST to 3:30 p.m. EST.

b. Place: By copy of this notice we are inviting U.S. Forest Service, U.S. Department of the Interior, Washington Department of Fish & Wildlife and Idaho Department of Fish & Game, and other interested parties to participate in a teleconference from their telephone location.

c. FERC Contact: Timothy Welch at (202) 219-2666: timothy.welch@ferc.fed.us.

d. Purpose of the Meeting: The Federal Energy Regulatory Commission seeks clarification of resource agency comments, mandatory conditions, and recommended protection, mitigation, and enhancement measures filed in response to our Notice of Ready for Environmental Analysis issued September 4, 2001.

e. Proposed Agenda:

A. Clarification of resource agency comments, mandatory conditions, and recommended protection, mitigation and enhancement measures.

B. FERC's schedule for issuing the Draft Environmental Impact Statement.

f. All local, state, and federal agencies, Indian Tribes and interested parties, are hereby invited to participate in this meeting. If you want to participate by teleconference, please register with either Timothy Welch at the number listed above or with Leslie Smythe at (781) 444-3330 ext. 481: lsmythe@louisberger.com NO LATER THAN close of business February 21, 2002.

C.B. Spencer,
Acting Secretary.

[FR Doc. 02-2250 Filed 1-29-02; 8:45 am]

BILLING CODE 6717-01-P